NATIONAL TRANSPORTATION SAFETY BOARD

Sunshine Act Meeting

Agenda

Time and Date: 9:30 a.m., Tuesday, March 28, 2017.

Place: NTSB Conference Center, 429 L'Enfant Plaza SW., Washington, DC 20594.

Status: The two items are open to the public.

Matters To Be Considered

56432 Aircraft Accident Report—Loss of Control at Takeoff, Air Methods Corporation, Airbus Helicopters AS350 B3e, N390LG, Frisco, Colorado, July 3, 2015.

56342 Highway Accident Report—Motorcoach Collision With Crash Attenuator in Gore Area, US Highway 101, San Jose, California, January 19, 2016.

Note: This meeting was previously announced in the Federal Register on Wednesday, March 1, 2017 (Vol. 82, No. 39, page 12248). The meeting was not held due to delayed U.S. Government operations in the Washington, DC area caused by inclement weather.

News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, March 22, 2015.

The public may view the meeting via a live or archived webcast by accessing a link under “News & Events” on the NTSB home page at www.ntsb.gov.

Schedule updates, including weather-related cancellations, are also available at www.ntsb.gov.

For More Information Contact: Candi Bing at (202) 314-6403 or by email at bingc@ntsb.gov or LaSean McCray at (202) 314-6047 or by email at lasean.mccray@ntsb.gov.

For Media Information Contact: Eric Weiss at (202) 314-6100 or by email at eric.weiss@ntsb.gov for the San Jose, CA accident, and Terry Williams at (202) 314-6100 or by email at terry.williams@ntsb.gov for the Frisco, CO accident.

Dated: Friday, March 17, 2017.
LaSean R. McCray,
Assistant Federal Register Liaison Officer.

[FR Doc. 2017-05755 Filed 3-17-17; 4:15 pm]

BILLING CODE 7533-01-P